DEPARTMENT OF THE TREASURY

Submission for OMB Review; Comment Request

June 21, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 30, 2001, to be assured of consideration.

Internal Revenue Service (IRS)

OMB Number: 1545-1610.

Form Number: IRS Form 5500 and Schedules.

Type of Review: Extension.

Title: Annual Return/Report of Employee Benefit Plan.

Description: Form 5500 is an annual information return by employee benefit plans. The IRS uses this information to determine if the plan appears to be operating properly as required under the law or whether the plan should be audited.

Respondents: Business or other for-profit, individuals or households, not-for-profit institutions, farms.

Estimated Number of Respondents/Recordkeepers: 998,682.

Estimated Burden Hours Per Respondent/Recordkeeper:

Form/Schedule | Pension plans: Large | Pension plans: Small | Welfare plans: Large | Welfare plans: Small
Form 5500 | 1 hr., 44 min | 1 hr., 6 min | 1 hr., 38 min | 1 hr., 5 min.
Schedule A | 1 hr., 41 min | 53 min | 8 hr., 10 min | 2 hr., 11 min.
Schedule B | 6 hr., 38 min | 31 min |  |
Schedule C | 1 hr., 17 min |  | 52 min |
Schedule D | 10 hr., 0 min | 10 hr., 0 min |  |
Schedule E | 3 hr., 18 min | 3 hr., 18 min |  |
Schedule F |  |  | 45 min | 26 min.
Schedule G | 11 hr., 58 min |  | 6 hr., 28 min |
Schedule H | 7 hr., 56 min |  | 3 hr., 22 min |
Schedule I |  | 1 hr., 28 min |  | 1 hr., 28 min.
Schedule P | 13 min | 2 min |  |
Schedule R | 1 hr., 0 min | 30 min |  |
Schedule SSA | 6 hr., 10 min | 1 hr., 42 min |  |
Schedule T | 4 hr., 40 min | 37 min |  |

Frequency of Response: Annually.

Estimated Total Reporting./Recordkeeping Burden: 4,378,728 hours.

Clearance Officer: Garrick Shear, Internal Revenue Service, Room 5244, 1111 Constitution Avenue, NW., Washington, DC 20224.

OMB Reviewer: Alexander T. Hunt, (202) 395-7860, Office of Management and Budget, Room 10202, New Executive Office Building Washington, DC 20503.

Lois K. Holland,
Departmental Reports, Management Officer.

[FR Doc. 01-16210 Filed 6-27-01; 8:45 am]

BILLING CODE 4830-01-P